DEPARTMENT OF AGRICULTURE

Natural Resources Conservation Service

Notice of Proposed Change to Section IV of the Field Office Technical Guide (FOTG) in Mississippi

AGENCY: Natural Resources Conservation Service (NRCS) in Mississippi.

ACTION: Notice of availability of proposed changes in Section IV of the FOTG of the NRCS in Mississippi for review and comment.

SUMMARY: It is the intention of NRCS in Mississippi to issue new and revised conservation practices of the FOTG in its entirety. Each of 123 standards under the responsibility of Ecological Sciences and Engineering are being issued and are available for public comment.

DATES: Comments will be received on or before March 23, 2000.

ADDRESSES: Inquire in writing to Homer L. Wilkes, State Conservationist, Natural Resources Conservation Service, Suite 1321 Federal Building, 100 W. Capitol Street, Jackson, MS 39269. Copies of the draft conservation practice standards will be made available upon written request.

BACKGROUND INFORMATION: Section 343 of the Federal Agriculture Improvement and Reform Act of 1996 states that revisions made after enactment of the law to NRCS State Technical Guides used to carry out highly erodible land and wetland provisions of the law shall be made available for public review and comment. For the next 30 days, the NRCS in Mississippi will receive comments relative to the stated summary. Following that period, a determination will be made by the NRCS in Mississippi regarding disposition of those comments and a final determination of change will be made.

Dated: February 11, 2000.
Richard L. Peace,
State Conservation Engineer, Jackson, MS.

[FR Doc. 00-4029 Filed 2-18-00; 8:45 am]

BILLING CODE 3410-21-P